DEPARTMENT OF COMMERCE

National Oceanic and Atmospheric Administration

RIN 0648-XE127

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold an 8-day public meeting to consider actions affecting West Coast fisheries in the exclusive economic zone.

DATES: Advisory entities to the Pacific Council will meet beginning at 8 a.m. Wednesday, September 9, 2015 through Wednesday, September 16, 2015 as listed in the Schedule of Ancillary Meetings. The Pacific Council general session will begin on Friday, September 11, 2015 at 8 a.m., reconvening each day through Wednesday, September 16, 2015. All meetings are open to the public, except a closed session will be held at 8 a.m. on Friday, September 11 to address litigation and personnel matters. The Pacific Council will meet as late as necessary each day to complete its scheduled business.

ADDRESSES: Meetings of the Council and its advisory entities will be held at the Doubletree by Hilton Sacramento, 2001 Point West Way, Sacramento, CA 95815; telephone: (916) 929-8855. Instructions for attending the meeting via live stream broadcast are given under SUPPLEMENTARY INFORMATION, below.

Council address: Pacific Fishery Management Council, 7700 NE. Ambassador Place, Suite 101, Portland, OR 97220.

FOR FURTHER INFORMATION CONTACT: Dr. Donald O. McIsaac, Executive Director, Pacific Fishery Management Council; telephone: (503) 820-2280 or (866) 806-7204 toll free. Access the Pacific Council Web site, http://www.pcouncil.org/council-operations/council-meetings/current-meeting/ for the current meeting location, proposed agenda, and meeting briefing materials.

SUPPLEMENTARY INFORMATION:

Live Stream Broadcast

Friday, September 11, 2015 Through Wednesday, September 16, 2015

The general session of the Pacific Fishery Management Council will be streamed live on the internet beginning at 9 a.m. Pacific Time (PT) on Friday, September 11, 2015 through Wednesday, September 16, 2015. The broadcast will end daily at 6 p.m. PT or when business for the day is complete. Only the audio portion, and portions of the presentations displayed on the screen at the Council meeting, will be broadcast. The audio portion is listen-only; you will be unable to speak to the Council via the broadcast. Join the meeting by visiting this link http://www.gotomeeting.com/online/webinar/join-webinar, enter the Webinar ID for this meeting, which is 141-257-515, and enter your email address as required. It is recommended that you use a computer headset as GoToMeeting allows you to listen to the meeting using your computer headset and speakers. If you do not have a headset and speakers, you may use your telephone for the audio portion of the meeting by dialing this toll number 1-702-489-0008 (not a toll free number); entering the phone audio access code 418-407-809; and then entering your Audio Pin which will be shown to you after joining the webinar. The webinar is broadcast in listen-only mode.

Agenda

Friday, September 11, 2015 Through Wednesday, September 16, 2015

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, and meeting rooms, is described in Agenda Item A.5, Proposed Council Meeting Agenda, and will be in the advance September 2015 briefing materials and posted on the Council Web site http://www.pcouncil.org/council-operations/council-meetings/current-briefing-book/.

A. Call to Order

1. Opening Remarks

2. Council Member Appointments

3. Roll Call

4. Executive Director's Report

5. Approve Agenda

B. Open Comment Period

1. Comments on Non-Agenda Items

C. Administrative Matters

1. Update on Council Coordination Committee Meeting

2. Legislative Matters

3. Approval of Council Meeting Record

4. Membership Appointments and Council Operating Procedures

5. Future Council Meeting Agenda and Workload Planning

D. Ecosystem Management

1. Fishery Ecosystem Plan Initiative Scoping

2. Unmanaged Forage Fish Regulations (Final Action)

E. Salmon Management

1. Salmon Methodology Review

2. Sacramento River Winter Chinook Update

F. Habitat

1. Current Habitat Issue

G. Highly Migratory Species Management

1. Update on International Issues

2. Swordfish Management and Monitoring Plan Hardcaps (Final Action)

3. Scoping of Amendment 4 to the Fishery Management Plan: Authorizing a Shallow-Set Longline Fishery Outside of the EEZ

H. Groundfish Management

1. Mid-Water Recreational Fishing Regulations

2. Consideration of Gear Regulations for the Trawl Catch Shares Sector

3. Final Stock Assessments

4. Electronic Monitoring Regulations and Exempted Fishing Permit Update

5. Specifications Process for 2017-2018 Management (Final Action)

6. Salmon Endangered Species Act Reinitiation of Consultation Workshop Report

7. Blackgill-Slope Rockfish Intersector Allocation and Accumulation Limit Adjustments

8. Amendment To Modify Groundfish Essential Fish Habitat and To Adjust Rockfish Conservations Areas

9. Inseason Adjustments (Final Action)

10. Groundfish Management Science Improvements and Methodology Review Topics

I. Pacific Halibut Management

1. 2016 Catch Sharing Plan and Annual Regulation Changes

Advisory Body Agendas

Advisory body agendas will include discussions of relevant issues that are on the Council agenda for this meeting, and may also include issues that may be relevant to future Council meetings. Proposed advisory body agendas for this meeting will be available on the Council Web site http://www.pcouncil.org/council-operations/council-meetings/current-briefing-book/ prior to their meeting date.

Schedule of Ancillary Meetings

Day 1, Wednesday, September 9, 2015

Scientific and Statistical Committee Ecosystem Subcommittee 8 a.m.

Day 2, Thursday, September 10, 2015

Ecosystem Advisory Subpanel 8 a.m.

Ecosystem Workgroup 8 a.m.

Groundfish Management Team 8 a.m.

Scientific and Statistical Committee 8 a.m.

Habitat Committee 8:30 a.m.

Legislative Committee 1 p.m.

Budget Committee 2:30 p.m.

Day 3, Friday, September 11, 2015

Groundfish Advisory Subpanel 8 a.m.

Groundfish Management Team 8 a.m.

Highly Migratory Species Advisory Subpanel 8 a.m.

Highly Migratory Species Management Team 8 a.m.

Scientific and Statistical Committee 8 a.m.

Enforcement Consultants 8 a.m.

Chairman's Reception 6 p.m.

Day 4, Saturday, September 13, 2015

Groundfish Advisory Subpanel 8 a.m.

Groundfish Management Team 8 a.m.

Highly Migratory Species Advisory Subpanel 8 a.m.

Highly Migratory Species Management Team 8 a.m.

Enforcement Consultants Ad hoc

Stock Assessment Briefing 7 p.m.

Day 5, Sunday, September 13, 2015

Groundfish Advisory Subpanel 8 a.m.

Groundfish Management Team 8 a.m.

Enforcement Consultants Ad hoc

Day 6, Monday, September 14, 2015

Groundfish Advisory Subpanel 8 a.m.

Groundfish Management Team 8 a.m.

Enforcement Consultants Ad hoc

Day 7, Tuesday, September 15, 2015

Groundfish Advisory Subpanel 8 a.m.

Groundfish Management Team 8 a.m.

Enforcement Consultants Ad hoc

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Kristopher Kleinschmidt at least 5 days prior to the meeting date by telephone (503) 820-2280; at the Council office (see ADDRESSES); or by email at kris.kleinschmidt@noaa.gov.

Authority: 16 U.S.C. 1801 et seq.

Dated: August 18, 2015.
Emily H. Menashes,
Deputy Director, Office of Sustainable Fisheries, National Marine Fisheries Service.

[FR Doc. 2015-20830 Filed 8-21-15; 8:45 am]

BILLING CODE 3510-22-P